DEPARTMENT OF THE TREASURY

Internal Revenue Service

Open Meeting of Citizen Advocacy Panel, Brooklyn District

AGENCY: Internal Revenue Service (IRS), Treasury.

ACTION: Notice of cancellation of open meeting of Citizen Advocacy Panel, Brooklyn District.

SUMMARY: The meeting scheduled for July 20, 2000 has been cancelled due to scheduling conflicts.

DATES: The meeting will be rescheduled and published at a later date.

FOR FURTHER INFORMATION CONTACT: Eileen Cain at 1-888-912-1227 or 718-488-3555.

SUPPLEMENTARY INFORMATION: Notice is hereby given pursuant to Section 10(a)(2) of the Federal Advisory Committee Act, 5 U.S.C. App. (1988) that an operational meeting of the Citizen Advocacy Panel originally scheduled for Thursday July 20, 2000, 6:00 p.m. to 9:00 p.m. at the Internal Revenue Service Brooklyn Building located at 625 Fulton Street, Brooklyn, NY 11201 has been cancelled due to scheduling conflicts. The meeting will be rescheduled and published at a later date.

Dated: June 29, 2000.
M. Cathy Vanhorn,
Director, CAP, Communications & Liaison.

[FR Doc. 00-18001 Filed 7-14-00; 8:45 am]

BILLING CODE 4830-01-P